COURT SERVICES AND OFFENDER SUPERVISION AGENCY FOR THE DISTRICT OF COLUMBIA

Notice of CSOSA and PSA Guidance Portals

AGENCY: Court Services and Offender Supervision Agency for the District of Columbia.

ACTION: Notice of availability.

SUMMARY: Pursuant to Executive Order 13891 and OMB M-20-02: Memorandum for Regulatory Policy Officers at Executive Departments and Agencies and Managing and Executive Directors of Certain Agencies and Commissions (OMB Memorandum M-20-02), Court Services and Offender Supervision Agency for the District of Columbia (CSOSA) and Pretrial Services Agency for the District of Columbia (PSA) are noticing the February 28, 2020 by both CSOSA and PSA of a single, searchable, indexed database, each containing all of the respective agency's guidance documents currently in effect.

DATES: Applicable February 28, 2020.

FOR FURTHER INFORMATION CONTACT:

CSOSA, Hyun-Ju E. Park, Supervisory Policy Analyst, Office of Policy Analysis, Court Services and Offender Supervision Agency, 633 Indiana Avenue NW, Washington, DC 20004, hyun-ju.park@csosa.gov

PSA: Victor Valentine Davis, Chief of Staff, Pretrial Services Agency for the District of Columbia, 633 Indiana Avenue NW, Washington, DC 20004, Victor.Davis@psa.gov

SUPPLEMENTARY INFORMATION: The Court Services and Offender Supervision Agency for the District of Columbia (CSOSA) was established within the Executive Branch of the Federal Government by the National Capital Revitalization and Self-Government Improvement Act of 1997, Public Law 105-33, 111 Stat. 251, 712 (D.C. Code § 24-133(a)). On August 4, 2000, CSOSA was certified by the United States Attorney General as an independent Federal agency. The Pretrial Services Agency for the District of Columbia (PSA) is an independent entity within CSOSA.

Section 3 of Executive Order 13891 requires federal agencies to “establish or maintain on its website a single, searchable, indexed database that contains or links to all guidance documents in effect from such agency or component.” Executive Order 13891, 84 FR 55, 235 (October 9, 2019). OMB Memorandum M-20-02 further requires agencies to “send to the Federal Register a notice announcing the existence of the new guidance portal and explaining that all guidance documents remaining in effect are contained on the new guidance portal.” OMB Memorandum M-20-02, page 1 (October 31, 2019).

In compliance with the above, CSOSA and PSA are respectively noticing the availability of a single, searchable, indexed database for CSOSA containing all CSOSA guidance documents currently in effect, which may be accessed at https://www.csosa.gov/guidance; and the availability of a single, searchable, indexed database for PSA containing all PSA guidance currently in effect, which may be accessed at https://www.psa.gov/?q=subject_index.

Rochelle Durant,
Federal Register Liaison.

[FR Doc. 2020-04003 Filed 2-26-20; 8:45 am]

BILLING CODE P